DEPARTMENT OF LABOR

Occupational Safety and Health Administration

[Docket No. OSHA-2006-0041]

Southwest Research Institute; Renewal and Expansion of Recognition

AGENCY: Occupational Safety and Health Administration (OSHA), Labor.

ACTION: Notice.

SUMMARY: This notice announces the Occupational Safety and Health Administration's final decision renewing and expanding the recognition of Southwest Research Institute (SWRI) as a Nationally Recognized Testing Laboratory under 29 CFR 1910.7.

DATES: The renewal and expansion of recognition become effective on February 28, 2007.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the renewal and expansion of recognition of Southwest Research Institute (SWRI) as a Nationally Recognized Testing Laboratory (NRTL). SWRI's expansion covers the use of an additional test standard, while the SWRI renewal covers its existing scope of recognition. OSHA's current scope of recognition for SWRI may be found in the following informational Web page: http://www.osha.gov/dts/otpca/nrtl/swri.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

SWRI initially received OSHA recognition as an NRTL on July 13, 1993 (58 FR 37752), for a five-year period ending on July 13, 1998. Appendix A to 29 CFR 1910.7 stipulates that the period of recognition of an NRTL is five years and that an NRTL may renew its recognition by applying not less than nine months, nor more than one year, before the expiration date of its current recognition. NRTLs submitting requests within this allotted time period retain their recognition during OSHA's renewal process. SWRI submitted the required application and received its first renewal of recognition on March 9, 1999 (64 FR 11503), for the five-year period ending March 9, 2004. SWRI then submitted a request dated June 4, 2003 (see Exhibit 14), to renew its recognition again. This request fell within the allotted time period, and SWRI retained its recognition pending OSHA's final decision in the renewal process.

In its June 4, 2003, application, the NRTL included an earlier request to expand its recognition to include three additional test standards, but then eliminated two of these standards from its request. The NRTL Program staff determined that the remaining standard is an “appropriate test standard” within the meaning of 29 CFR 1910.7(c). Therefore, OSHA is approving this one additional test standard for the expansion. For the renewal, the Agency is approving the 11 test standards currently in SWRI's scope. In connection with the renewal, NRTL Program staff assessed the NRTL's facilities in April 2005 and recommended renewal of the SWRI recognition in a memo dated August 31, 2005 (see Exhibit 14-1). The assessor had previously recommended approval of the additional standard (also see Exhibit 14-1), but the expansion was deferred pending SWRI's decision regarding the two standards it eliminated.

The preliminary notice announcing the renewal/expansion application was published in the Federal Register on October 6, 2006 (71 FR 59133). Comments were requested by October 23, 2006, but no comments were received in response to this notice. OSHA is now proceeding with this final notice to grant SWRI's renewal/expansion application.

The most recent application processed by OSHA specifically related to SWRI's recognition granted an expansion, and the final notice for this expansion was published on November 22, 2000 (65 FR 70366). OSHA, however, issued a notice modifying the scope of a number of NRTLs to replace or delete withdrawn test standards (70 FR 11273, March 8, 2005). SWRI was one of those NRTLs.

You may obtain or review copies of all public documents pertaining to the SWRI application by contacting the Docket Office, Occupational Safety and Health Administration, U.S. Department of Labor, 200 Constitution Avenue, NW., Room N-2625, Washington, DC, 20210. Docket No. OSHA-2006-0041 (formerly, NRTL3-90) contains all materials in the record concerning SWRI's recognition.

The current address of the SWRI facility already recognized by OSHA is: Southwest Research Institute, 6220 Culebra Road, Post Office Drawer 28510, San Antonio, TX 78228.

Final Decision and Order

NRTL Program staff has examined the application, the assessor's recommendations, and other pertinent information. Based upon this examination and the assessor's recommendations, OSHA finds that SWRI has met the requirements of 29 CFR 1910.7 for renewal and expansion of its recognition, subject to the limitations and conditions listed below. Pursuant to the authority in 29 CFR 1910.7, OSHA hereby renews and expands the recognition of SWRI, subject to these limitations and conditions.

Limitations

1. Test Standards and Site

OSHA limits the renewal of SWRI's recognition to the one site listed above and to testing and certification of products for demonstration of conformance to the following test standards, each of which OSHA has determined is an appropriate test standard, within the meaning of 29 CFR 1910.7(c):

ASTM E2074 | Standard Method for Fire Tests of Door Assemblies.
UL 10A | Tin-Clad Fire Doors.
UL 10B | Fire Tests of Door Assemblies.
UL 94 | Tests for Flammability of Plastic Materials for Parts in Devices and Appliances.
UL 155 | Tests of Fire Resistance of Vault and File Room Doors.
UL 162 | Foam Equipment and Liquid Concentrates.
UL 555 | Fire Dampers.
UL 711 | Rating and Fire Testing of Fire Extinguishers.
UL 1887 | Fire Test of Plastic Sprinkler Pipe for Visible Flame and Smoke Characteristics.
UL 2085 | Protected Aboveground Tanks for Flammable and Combustible Liquids.
UL 60950 | Information Technology Equipment.

Additionally, OSHA limits the expansion of SWRI's recognition to testing and certification of products for demonstration of conformance to the following test standard, which also is an appropriate test standard, as previously noted: UL 525 Flame Arresters.

The designations and titles of all of the above test standards were current at the time of the preparation of the preliminary notice.

OSHA's recognition of SWRI, or any NRTL, for a particular test standard is limited to equipment or materials (i.e., products) for which OSHA standards require third-party testing and certification before use in the workplace. Consequently, if a test standard also covers any product(s) for which OSHA does not require such testing and certification, an NRTL's scope of recognition does not include that product(s).

Many UL test standards are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

2. Supplemental Programs

The renewal is also limited to continued use by SWRI of the following supplemental programs, all of which are currently in its scope:

Program 2: Acceptance of testing data from independent organizations, other than NRTLs.

Program 3: Acceptance of product evaluations from independent organizations, other than NRTLs.

Program 4: Acceptance of witnessed testing data.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Conditions

SWRI must also abide by the following conditions of the recognition, in addition to those already required by 29 CFR 1910.7:

OSHA must be allowed access to SWRI's facilities and records for purposes of ascertaining continuing compliance with the terms of its recognition and to investigate as OSHA deems necessary;

If SWRI has reason to doubt the efficacy of any test standard it is using under this program, it must promptly inform the test standard developing organization of this fact and provide that organization with appropriate relevant information upon which its concerns are based;

SWRI must not engage in or permit others to engage in any misrepresentation of the scope or conditions of its recognition. As part of this condition, SWRI agrees that it will allow no representation that it is either a recognized or an accredited Nationally Recognized Testing Laboratory (NRTL) without clearly indicating the specific equipment or material to which this recognition is tied, or that its recognition is limited to certain products;

SWRI must inform OSHA as soon as possible, in writing, of any change of ownership, facilities, or key personnel, and of any major changes in its operations as an NRTL, including details;

SWRI will meet all the terms of its recognition and will always comply with all OSHA policies pertaining to this recognition; and

SWRI will continue to meet the requirements for recognition in all areas where it has been recognized.

Signed at Washington, DC, this 21st day of February, 2007.
Edwin G. Foulke, Jr.,
Assistant Secretary of Labor.

[FR Doc. E7-3440 Filed 2-27-07; 8:45 am]

BILLING CODE 4510-26-P